DEPARTMENT OF ENERGY

Federal Energy Regulatory Commission

[Project No. 13600-000]

Alaska Power & Telephone Company; Notice of Preliminary Permit Application Accepted for Filing and Soliciting Comments, Motions To Intervene, and Competing Applications

October 30, 2009.

On October 5, 2009, Alaska Power & Telephone Company filed an application for a preliminary permit, pursuant to section 4(f) of the Federal Power Act, proposing to study the feasibility of the Yukon River Hydrokinetic Water Power Project, located on the Yukon River, in the Southeast Fairbanks Census Area, near Eagle, Alaska. The sole purpose of a preliminary permit, if issued, is to grant the permit holder priority to file a license application during the permit term. A preliminary permit does not authorize the permit holder to perform any land disturbing activities or otherwise enter upon lands or waters owned by others without the owners' express permission.

The proposed project would consist of: (1) A 41.5-foot-long fabricated aluminum pontoon barge used to deploy and support the turbines; (2) a 25-kilowatt (kW) turbine generator unit attached to the pontoon barge; (3) a V-shaped floating debris boom tethered to the pontoon; (4) a power conversion station (PCS) building, located on the river bank adjacent to the moored pontoon barge; (5) a 750-foot-long, 600-volt power and control cable linking the turbine generator unit with the PCS building; (6) a 150-foot-long, 7.2-kilovolt (kV) transmission line connecting the PCS building to an existing 7.2-kV utility transmission line; and (7) appurtenant facilities. The project is projected to operate from May 15th to October 15th annually. The pontoon barge, turbine/generator unit, debris boom, and power and control cable will be removed from the river each October and redeployed the following May to prevent damage to the project facilities from winter ice in the Yukon River. The proposed Yukon River Hydrokinetic Water Power Project would have an average annual generation of 55-60 megawatt-hours.

Applicant Contact: Mr. Robert S. Grimm, CEO/President, Alaska Power & Telephone Company, P.O. Box 3222, Port Townsend, WA 98368; phone: (360) 385-1733.

FERC Contact: Jennifer Harper, 202-502-6136.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13600) in the docket number field to access the document. For assistance, contact FERC Online Support.

Kimberly D. Bose,
Secretary.

[FR Doc. E9-26739 Filed 11-5-09; 8:45 am]

BILLING CODE 6717-01-P